DEPARTMENT OF COMMERCE

National Oceanic and Atmospheric Administration

50 CFR Parts 600 and 660

[Docket No. 011231309-2090-03; I.D. 111302A]

Fisheries off West Coast States and in the Western Pacific; Pacific Coast Groundfish Fishery; Annual Specifications and Management Measures; Trip Limit Adjustments; Correction

AGENCY: National Marine Fisheries Service (NMFS), National Oceanic and Atmospheric Administration (NOAA), Commerce.

ACTION: Inseason trip limit adjustments and correction; request for comments.

SUMMARY: NMFS announces trip limit changes in the Pacific Coast groundfish fisheries for flatfish sub-limits in the exempted trawl fishery for California halibut and trip limit corrections for minor nearshore and widow rockfish in the limited entry trawl fisheries. These actions, which are authorized by the Pacific Coast Groundfish Fishery Management Plan (FMP), will allow fisheries access to healthy groundfish stocks while protecting overfished and depleted stocks.

DATES: Effective 0001 hours local time November 20, 2002 until the 2003 annual specifications and management measures are effective, unless modified, superseded, or rescinded through a publication in the Federal Register.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen (Northwest Region, NMFS), phone: 206-526-6140; fax: 206-526-6736; and e-mail: carrie.nordeen@noaa.gov.

SUPPLEMENTARY INFORMATION:

Electronic Access

This Federal Register document is available on the Government Printing Office's Web site at: http://www.access.gpo.gov/su_docs/ca/docs/aces/aces140.html. Background information and documents are available at the NMFS Northwest Region Web site at: http://www.nwr.noaa.gov/1sustfsh/gdfsh01.htm and at the Pacific Fishery Management Council's Web site at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the current fishing year (January 1-December 31, 2002) were initially published in the Federal Register as an emergency rule for January 1-February 28, 2002 (67 FR 1540, January 11, 2002), as a proposed rule for all of 2002 (67 FR 1555, January 11, 2002), and as a final rule effective March 1, 2002 (67 FR 10490, March 7, 2002). The final rule was subsequently amended at 67 FR 15338, April 1, 2002; at 67 FR 18117, April 15, 2002; at 67 FR 30604, May 7, 2002; at 67 FR 40870, June 14, 2002; at 67 FR 44778, July 5, 2002; at 67 FR 48571, July 25, 2002; at 67 FR 50835, August 6, 2002; at 67 FR 55166, August 28, 2000; at 67 FR 56497, September 4, 2002; at 67 FR 57973, September 13, 2002; at 67 FR 62204, October 4, 2002; at 67 FR 62401, October 7, 2002; and at 67 FR 64826, October 22, 2002.

The following changes to current groundfish management measures were recommended by the Pacific Council, in consultation with Pacific Coast Treaty Tribes and the States of Washington, Oregon, and California, at its October 29-November 1, 2002, meeting in Foster City, CA. Pacific Coast groundfish landings will be monitored throughout the year, and further adjustments will be made as necessary to allow achievement of or to avoid exceeding the 2002 optimum yields (OYs) and allocations.

Limited Entry Trawl Small Footrope Limits for Nearshore Rockfish and Widow Rockfish North of 40°10′ N. lat.

On September 10, 2002, NMFS implemented an emergency rule to establish new depth-based management measures in the Pacific Coast groundfish fishery north of 40°10′ N. lat. for September-December 2002 (67 FR 57973, September 13, 2002). This emergency rule created the Darkblotched Rockfish Conservation Area (DBCA) to protect darkblotched rockfish, an overfished species, and re-opened areas outside the DBCA to limited entry trawl harvest of healthy groundfish stocks that otherwise would have been foregone to protect darkblotched rockfish. Fishing with limited entry trawl large footrope gear has been permitted seaward of the DBCA September-December and fishing with limited entry small footrope gear has been permitted shoreward of the DBCA during October-December.

When setting rockfish incidental catch allowance recommendations for the area shoreward of the DBCA in October's inseason action (67 FR 62401, October 7, 2002), the Pacific Council overlooked allowances for nearshore rockfish and widow rockfish. After discussing this issue at its October/November meeting, instead of prohibiting retention of nearshore and widow rockfish, the Pacific Council recommended limited entry trawl small footrope limits of 300 lb (136 kg) per month for nearshore rockfish and 500 lb (227 kg) per month for widow rockfish for the November-December cumulative period north of 40°10' N. lat. These incidental catch allowances will decrease the discard of rockfish incidentally taken with nearshore flatfish species, but are not expected to cause the 2002 OYs for any rockfish species or species group to be exceeded.

Exempted California Trawl Sub-limit for Flatfish South of 40°10' N. lat.

Another incidental catch allowance issue brought to the Pacific Council's attention at their October/November meeting was that of groundfish retention in the exempted trawl fishery for California halibut. Since July 1, 2002 (67 FR 44778), all groundfish retention with exempted trawl gear south of 40°10' N. lat. has been prohibited to protect bocaccio. In addition to slowing the catch of bocaccio, prohibiting the retention of all groundfish species taken with exempted trawl gear has resulted in the discard of small amounts of valuable flatfish species in the trawl fishery for California halibut. Because flatfish species are taken incidentally with California halibut at depths shallower than where bocaccio are typically found (less than 40 fm (73 m)), an incidental catch allowance for nearshore flatfish is not expected to result in additional catch of bocaccio rockfish. Therefore, the Pacific Council recommended a California halibut exempted trawl flatfish sub-limit of up to 100 lb (45 kg) per day, provided that flatfish are landed with at least one California halibut, and an exempted trawl flatfish limit of between 100 lb (45 kg) and 300 lb (136 kg) per day, not to exceed 3,000 lb (1,361 kg) per month, provided the amount of flatfish landed does not exceed the amount of California halibut landed. Because of the small size of this incidental catch allowance and the variability of California halibut catch rates, the Pacific Council recommended suspension of the previous requirement that groundfish poundage not exceed non-groundfish poundage for flatfish landings of less than 100 lb (45 kg). These low incidental catch allowances are not expected to result in an effort shift whereby vessels would be targeting flatfish.

NMFS Actions

For the reasons stated herein, NMFS concurred with the Pacific Council's recommendations and hereby announces the following changes to the 2002 specifications and management measures:

1. On page 10517 in the March 7, 2002, issue of the Federal Register, in section IV., under B. Limited Entry Fishery, at the end of paragraph (1), Table 3 is revised to read as follows:

BILLING CODE 3510-22-S

IV. NMFS Actions

B. Limited Entry Fishery

(1) * * *

* * * * *

2. On page 10520 in the same issue, in section IV., under C. Trip Limits in the Open Access Fishery, at the end of paragraph (1), Table 5 is revised to read as follows:

IV. NMFS Actions

C. Trip Limits in the Open Access Fishery

(1) * * *

BILLING CODE 3510-22-C

* * * * *

3. On page 10521, in column 1, section IV., under C. Trip Limits in the Open Access Fishery, paragraph (2)(a) is revised to read as follows:

(a) Trip limits. (i) North of 40°10' N. lat. The trip limit is 300 lb (136 kg) of groundfish per fishing trip. Limits in Table 5 also apply and are counted toward the 300 lb (136 kg) groundfish limit. In any landing by a vessel engaged in fishing for spot prawns with exempted trawl gear, the amount of groundfish landed may not exceed the amount of the target species landed. The daily trip limits for sablefish may not be multiplied by the number of days of the fishing trip.

(ii) South of 40°10' N. lat. “It is prohibited to take and retain, possess, or land any groundfish species with exempted trawl gear with the following exceptions: vessels participating in the California halibut fishery south of 38°57'30'' N. lat. are allowed to land up to 100 lb (45 kg) of flatfish per day, provided that flatfish are landed with at least one California halibut, and vessels participating in the California halibut fishery south of 38°57'30'' N. lat. are allowed to land between 100 lb (45 kg) and 300 lb (136 kg) of flatfish per day, not to exceed 3,000 lb (1,361 kg) per month provided that the amount of flatfish landed does not exceed the amount of California halibut landed.”

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(B), because providing prior notice and opportunity for comment would be impracticable. It would be impracticable because the trip limit adjustments are for the November-December cumulative trip limit period and affording prior notice and opportunity for public comment would not allow fishers to take advantage of this harvest opportunity. This would impede the agency's function of managing fisheries to approach without exceeding the OY for federally managed species. The AA is also waiving the 30-day delay in effectiveness requirement under 5 U.S.C. 553(d)(1) because this rule relieves a restriction. Delaying implementation of these trip limit adjustments may cause unnecessary hardship among the West Coast groundfish fleets. In 2002, the West coast groundfish fleet has suffered severe cutbacks in season lengths, areas, and species available to be fished in an effort by the Pacific Council to primarily protect darkblotched and bocaccio rockfish, both overfished species. Both of the trip limit adjustments in this document are increases from the status quo. Increases to trip limits for healthy stocks must be implemented in a timely manner to alleviate some of the economic and social burden fishermen and fishing communities have to bear to protect overfished and depleted groundfish species. Delaying implementation of these trip limit adjustments would restrict fishermen to the reduced trip limits put in place by the July and October inseason actions.

These actions are taken under the authority of 50 CFR 660.323(b)(1) and are exempt from review under Executive Order 12866.

Authority: 16 U.S.C. 1801 et. seq.

Dated: November 14, 2002.
Richard W. Surdi,
Acting Director, Office of Sustainable Fisheries, National Marine Fisheries Service.

[FR Doc. 02-29510 Filed 11-19-02; 8:45 am]

BILLING CODE 3510-22-S